DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Children's Hospital Graduate Medical Education (CHGME) Payment

Program Annual Report: NEW

The CHGME Payment Program was enacted by Public Law 106-129 to provide Federal support for graduate medical education (GME) to freestanding children's hospitals, similar to Medicare GME support received by other non-children's hospitals. The legislation mandates that eligible children's hospitals will receive payments for both direct and indirect medical education. Direct payments are designed to offset the expenses associated with operating approved graduate medical residency training programs and indirect payments are designed to compensate hospitals for expenses associated with the treatment of more severely ill patients and the additional costs relating to teaching residents in such programs.

The CHGME Payment Program was reauthorized for a period of five years in October 2006 by Public Law 109-307. The reauthorizing legislation requires that children's hospitals participating and receiving funds from the CHGME Payment Program provide information about their residency training programs in an annual report that will be an addendum to the hospitals' annual applications for funds. Specifically, data are required to be collected on: (1) The types of training programs that the hospital provided for residents such as general pediatrics, internal medicine/pediatrics, and pediatric subspecialties including both American Board of Pediatrics certified medical subspecialties and non-medical subspecialties approved by other medical certification boards; (2) the number of training positions for residents, the number of such positions recruited to fill, and the number of positions filled; (3) the types of training that the hospital provided for residents related to the health care needs of difference populations such as children who are underserved for reasons of family income or geographic location, including rural and urban areas; (4) changes in residency training the hospital made during an academic year, including changes in curricula, training experiences, and types of training programs, and benefits that have resulted from such changes and changes for purposed of training residents in the measurement and improvement and the quality and safety of patient care; and (5) the numbers of residents (disaggregated by specialty and subspecialty) who completed training in the academic year and provide care within the borders of the service area of the hospital or within the borders of the State in which the children's hospital is located. For purposes of the annual report data collection, “residents” are those who are (1) in full-time equivalent resident training positions in any training program sponsored by the hospital; or (2) in a training program sponsored by an entity other than the hospital who spend more than 75 percent of their time training at the hospital.

The annual report data collection instruments consist of Excel workbooks with several pages (worksheets) each. These data collection instruments for the annual report were pre-tested by nine participating CHGME Payment Program hospitals. Each hospital provided an estimate of the number of hours required to complete each part of the annual report. Following the pre-test, the data collection instruments were significantly reduced by collapsing certain categories, shifting several questions from the individual GME training program level to the hospital level instrument, and by omitting several questions. As a result, the estimated burden to each respondent was significantly reduced.

The estimated annual burden is as follows:

Form name | Number of respondents | Responses per respondent | Total number of responses | Hours per response | Total burden hours
Screening Instrument | 57 | 1 | 57 | 10.0 | 570.0
Annual Report, Hospital and Program-Level Information | 57 | 1 | 57 | 74.8 | 4263.6
Total | 57 |  | 57 | 84.8 | 4833.6

Written comments and recommendations concerning the proposed information collection should be sent within 30 days of this notice to the desk officer for HRSA, either by e-mail to OIRA_submission@omb.eop.gov or by fax to 202-395-6974. Please direct all correspondence to the “attention of the desk officer for HRSA.”

Dated: September 14, 2007.
Alexandra Huttinger,
Acting Director, Division of Policy Review and Coordination.

[FR Doc. E7-18561 Filed 9-19-07; 8:45 am]

BILLING CODE 4165-15-P